DEPARTMENT OF THE INTERIOR

National Park Service

National Register of Historic Places; Notification of Pending Nominations

Nominations for the following properties being considered for listing in the National Register were received by the National Park Service before November 16, 2002. Pursuant to section 60.13 of 36 CFR part 60 written comments concerning the significance of these properties under the National Register criteria for evaluation may be forwarded by United States Postal Service, to the National Register Historic Places, National Park Service, 1849 C St. NW., 2280, Washington, DC 20240; by all other carriers, National Register of Historic Places, National Park Service, 1201 Eye St. NW., 8th floor, Washington, DC 20005; or by fax, 202-343-1836. Written or faxed comments should be submitted by December 9, 2002.

Carol D. Shull,
Keeper of the National Register of Historic Places.

ARKANSAS

Carroll County

Blue Spring Shelter, Address Restricted, Eureka Springs, 02001596

Craighead County

Stuck, C.A., and Sons Lumber, 215 Union St., Jonesboro, 02001597

Franklin County

Ozark Courthouse Square Historic District, Roughly W. Commercial, W. Main, 2nd and 3rd St., Courthouse Sq., Ozark, 02001599

Perry County

Hollis Country Store, (Arkansas Highway History and Architecture MPS), 2125 AR 7 S, Hollis, 02001598

Pulaski County

Allinder, Bailey, House, 301 Skyline Dr., North Little Rock, 02001600

CONNECTICUT

Hartford County

Grandview Terrace Blvd., Roughly along Grandview Terrace, Hartford, 02001624

IOWA

Humboldt County

Taft, Shephen Harris, House, 809 First Ave. N, Humboldt, 02001601

LOUISIANA

Iberville Parish

Lucky Plantation House, 1295 River Rd., Sunshine, 02001603

Morehouse Parish

Morehouse Parish Courthouse, 125 E. Madison, Bastrop, 02001622

St. Tammany Parish

Johnson House, 402 Lafitte St., Mandeville, 02001602

MARYLAND

Baltimore County

Cantonville Historic District, Old, Bet. Edmondson, Frederick, Melvin and Smithwood Aves., Catonsville, 02001573

Baltimore Independent City

American Ice Company Baltimore Plant No. 2, 330 W. 23rd St., Baltimore (Independent City), 02001589

Baltimore East/South Clifton Park Historic District, Roughly bounded by Clifton Park, N. Broadway, E. Chase St., and N. Rose St. Baltimore (Independent City), 02001611

Holy Cross Roman Catholic Church, 106-112 East West St., Baltimore (Independent City), 02001578

Maryland White Lead Works, 921-979 E. Fort Ave., Baltimore (Independent City), 02001604

National Brewing Company, 3601-3901 Dillon St., Baltimore (Independent City), 02001579

National Enameling and Stamping Company, 1901 Light St., Baltimore (Independent City), 02001583

North Central Historic District, Roughly bounded by North Ave., Greenmount Ave., Falls Rd., and I-83, Baltimore (Independent City), 02001606

Patterson Park—Highlandtown Historic District, Roughly bounded by Patterson Park Ave., E. Fayettte St., and Pulaski Hwy, Grundy St., Eastern Ave., Patterson Park, Baltimore (Independent City), 02001623

United States Parcel Post Station, 1501 St. Paul St., Baltimore (Independent City), 02001595

Windsor Hills Historic District, Roughly bounded by Chelsea Terrace, Windsor Mill Rd., Talbot Rd., Westchester Rd., and Woodhaven Ave., Baltimore (Independent City), 02001610

Gunther Brewing Company, 1200, 1211, 1301 S. Conkling St., 3601, 3701 O'Donnell St., E side S. Conkling St., Rear E side of S. Conkling St., Baltimore (Independent City), 02001607

Caroline County

Marble Head, 24435 Marblehead Rd., Ridgely, 02001577

Williston Mill Historic District, 24729 Williston Rd., Denton, 02001576

Carroll County

Hampstead School, 1211 N. Main St., Hampstead, 02001575

Frederick County

Hood College Historic District, 401 Rosemont Ave., Frederick, 02001581

Markell, George, Farmstead, 4825 Buckeystown Pike, Frederick, 02001584

Stonebraker and Harbaugh—Shafer Building, 100-104 W. Main St., Middletown, 02001585

Wolfe, James K.P., House, 1201 Motter Ave., Frederick, 02001582

Harford County

Church of the Holy Trinity, 2929 Level Rd., Churchville, 02001580

Prince George's County

Calvert Hills Historic District, Roughly bounded by Calvert rd., Bowdoin Ave., Erskine Rd., Calvert Park, Albion Rd., and Baltimore Rd., Collerge Park, 02001605

Riverdale Park Historic District, Roughly bounded by Tuckerman St., Taylor Rd., Oglethorpe St., the B&O RR tracks, Madison St. and Baltimore Ave., Riverdale Park, 02001608

West Riverdale Historic District, Roughly bounded by East-West Hwy, 44th Place, the City of Hyattsville and 43rd St., Riverdale Park, 02001609

Somerset County

Maddux House, 9084 Maddox Island Rd., Upper Fairmount, 02001574

Watkins Point Farm, 27737 Phoenix Church Rd., Marion Station, 02001586

Talbot County

Llandaff House, 28472 Old Country Club Rd., Easton, 02001587

Washington County

Fiery, Joseph, House, 15107 Hicksville Rd., Clear Spring, 02001588

Garden Hill, 1251 Frederick St., Hagerstown, 02001590

Good—Reilly House, 107 E. Main St., Sharpsburg, 02001591

Hagerman, William, Farmstead, 7207 Dam #4 Rd., Sharpsburg, 02001592

Highbarger, Jacob, House, 201 W. Main St., Sharpsburg, 02001593

Worcester County

Gunn, Samuel, House, 200 W. Market St., Snow Hill, 02001594

MASSACHUSETTS

Berkshire County

Upper North Street Commercial District, 239-555 North St., 33 Eagle St., Pittsfield, 02001615

Middlesex County

Parker Village Historic District, Concord, Carlisle, Old Lowell, Griffin Rds., Westford, 02001613

Norfolk County

Cohasset Central Cemetery, N. Main St. and Joy Place, Cohasset, 02001612

Wilson, Capt. John, House and Bates Ship Chandlery, 4 Elm St., Cohasset, 02001614

NEW JERSEY

Camden County

Ritz Theatre, 915 White Horse Pike, Haddon, 02001625

NEW YORK

Albany County

Rapp Road Community Historic District, Rapp Rd., Albany, 02001620

New York County

ADMIRAL DEWEY (tugboat), Pier 16, East River, New York, 02001619

OHIO

Lake County

Bedford Baptist Church, 750 Broadway Ave., Bedford, 02001618

VIRGINIA

Richmond Independent City

Tuckahoe Masonic Temple, 319 Maple Ave., Richmond (Independent City), 02001621

WASHINGTON

Chelan County

Cottage Avenue Historic District, 208-509 Cottage Ave., 103 Maple St., 107 Parkhill St., Cashmere, 02001617

Thurston County

Tenino Downtown Historic District, Sussex St. SE, Tenino, 02001616

[FR Doc. 02-29784 Filed 11-21-02; 8:45 am]

BILLING CODE 4310-70-P